DEPARTMENT OF LABOR

Employment and Training Administration

[TA-W-71,952]

General Motors Company Formerly Known as General Motors Corporation, Orion Assembly Plant Including On-Site Leased Workers From Aerotek Automotive Lake Orion, MI; Amended Certification Regarding Eligibility To Apply for Worker Adjustment Assistance

In accordance with Section 223 of the Trade Act of 1974, as amended (“Act”), 19 U.S.C. 2273, the Department of Labor issued a Certification of Eligibility to Apply for Worker Adjustment Assistance on March 17, 2010, applicable to workers of General Motors Company, formerly known as General Motors Corporation, Orion Assembly Plant, Lake Orion, Michigan. The notice was published in the Federal Register on April 23, 2010 (75 FR 21355).

At the request of the State agency, the Department reviewed the certification for workers of the subject firm. The workers assembled the Chevrolet Malibu and Pontiac G6.

New information shows that workers leased from Aerotek Automotive were employed on-site at the Lake Orion, Michigan location of General Motors Company, formerly known as General Motors Corporation, Orion Assembly Plant. The Department has determined that these workers were sufficiently under the control of the subject firm to be considered leased workers.

Based on these findings, the Department is amending this certification to include workers leased from Aerotek Automotive working on-site at the Lake Orion, Michigan location of General Motors Company, formerly known as General Motors Corporation, Orion Assembly Plant.

The amended notice applicable to TA-W-71,952 is hereby issued as follows:

All workers of General Motors Company, formerly known as General Motors Corporation, Orion Assembly Plant, including on-site leased workers from Aerotek Automotive, Lake Oregon, Michigan, who became totally or partially separated from employment on or after August 6, 2008, through March 17, 2012, and all workers in the group threatened with total or partial separation from employment on the date of certification through two years from the date of certification, are eligible to apply for adjustment assistance under Chapter 2 of Title II of the Trade Act of 1974, as amended.

Signed at Washington, DC, this 25th day of August, 2010.
Del Min Amy Chen,
Certifying Officer, Office of Trade Adjustment Assistance.

[FR Doc. 2010-22105 Filed 9-3-10; 8:45 am]

BILLING CODE 4510-FN-P